DEPARTMENT OF LABOR

Employment and Training Administration

Notice of Availability of Funds and Funding Opportunity Announcement for Disability Employment Initiative Cooperative Agreements

AGENCY: Employment and Training Administration, Labor.

ACTION: Funding Opportunity Announcement (FOA).

Funding Opportunity Number: FOA-ETA-15-08.

SUMMARY: The Employment and Training Administration (ETA) announces the availability of approximately $15 million in grant funds for the Disability Employment Initiative authorized by Section 169, subsection (b), of the Workforce Innovation and Opportunity Act (WIOA). The Department expects to fund approximately eight cooperative agreements to state workforce agencies, ranging from $1.5 million to $2.5 million each. Applicants may apply for up to $2.5 million.

The purpose of this program is to provide funding to expand the capacity of American Job Centers (AJCs) to improve employment outcomes of individuals with disabilities (including those with significant disabilities). The DEI plans to accomplish this by increasing their participation in career pathways systems and successful existing programs in the public workforce system in partnership with community colleges and other education partners, human services, businesses, and other partners. These career pathways systems are capitalizing on the flexibility that the career pathways model provides to use innovative service delivery strategies. Grantees will use their award to support job-driven approaches in their pre-existing career pathway systems and programs to equip individuals with disabilities with the skills, competencies, and credentials necessary to help them obtain in-demand jobs, increase earnings, and advance their careers.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is June 11, 2015. Applications must be received no later than 4:00:00 p.m. Eastern Time.

FOR FURTHER INFORMATION CONTACT: Cam Nguyen, 200 Constitution Avenue NW., Room N-4716, Washington, DC 20210; Telephone: 202-693-2838.

Signed April 17, 2015 in Washington, DC
Donna Kelly,
Grant Officer, Employment and Training Administration.

[FR Doc. 2015-09407 Filed 4-22-15; 8:45 am]

BILLING CODE 4510-FN-P